ENVIRONMENTAL PROTECTION AGENCY

[EPA-HQ-OPP-2023-0445; FRL-11370-04-OCSPP]

Pesticides; White Paper; Framework for Interagency Collaboration To Review Potential Antibacterial and Antifungal Resistance Risks Associated With Pesticide Use; Notice of Availability and Request for Comment; Extension of Comment Period

AGENCY: Environmental Protection Agency (EPA).

ACTION: Notice; extension of comment period.

SUMMARY: In the Federal Register of July 2, 2024, EPA announced the availability of and solicited public comment on a framework for expanding interagency collaboration to improve the communication and knowledge base within the federal family to fully consider potential adverse impact of pesticides on efficacy of human and animal drugs. In particular, the use of antifungal and antibacterial pesticides, that can potentially lead to resistance in human and animal pathogens and may compromise the effectiveness of medically important antibacterial and antifungal drugs. This document extends the comment period, which was scheduled to end on August 1, 2024, for 14 days.

DATES: The comment period for the document published on July 2, 2024, at 89 FR 54819 (FRL-11370-03-OCSPP) is extended. Comments must be received on or before August 15, 2024.

ADDRESSES: Submit your comments, identified by ID number EPA-HQ-OPP-2023-0445, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Susan Jennings, Immediate Office (7501M), Office of Pesticide Programs, Environmental Protection Agency, 1200 Pennsylvania Ave. NW, Washington, DC 20460-0001; telephone number: (706) 355-8574; email address: jennings.susan@epa.gov.

SUPPLEMENTARY INFORMATION: To give stakeholders additional time to review materials and prepare comments, EPA is hereby extending the comment period established in the Federal Register document of July 2, 2024, at 89 FR 54819 (FRL-11370-03-OCSPP) for 14 days, from August 1, 2024, to August 15, 2024. More information on the action can be found in the Federal Register of July 2, 2024.

Authority:7 U.S.C. 136 et seq.

Dated: July 22, 2024.
Michal Freedhoff,
Assistant Administrator, Office of Chemical Safety and Pollution Prevention.

[FR Doc. 2024-16373 Filed 7-24-24; 8:45 am]

BILLING CODE 6560-50-P